DEPARTMENT OF ENERGY

Western Area Power Administration

2021 Resource Pool, Pick-Sloan Missouri Basin Program—Eastern Division

AGENCY: Western Area Power Administration, Department of Energy.

ACTION: Notice to conclude the 2021 Resource Pool.

SUMMARY: Western Area Power Administration (WAPA) announces the conclusion of the 2021 Resource Pool provided for in a Notice of procedures and call for 2021 Resource Pool applications published in the Federal Register on May 29, 2018. WAPA determined there were no eligible new preference customers in the 2021 Resource Pool. Therefore, no allocations will be made as part of the 2021 Resource Pool.

DATES: The conclusion of the 2021 Resource Pool is effective March 6, 2019.

ADDRESSES: Information about the conclusion of the 2021 Resource Pool, including letters and other supporting documents made or kept by WAPA during the 2021 Resource Pool process, is available for public inspection and copying at the Upper Great Plains Region, Western Area Power Administration, 2900 4th Avenue North, Billings, MT 59101-1266.

FOR FURTHER INFORMATION CONTACT: Ms. Nancy Senitte, Public Utilities Specialist, Upper Great Plains Customer Service Region, Western Area Power Administration, 2900 4th Avenue North, Billings, MT 59101, telephone (406) 255-2933, email senitte@wapa.gov.

SUPPLEMENTARY INFORMATION: WAPA published the Notice of procedures and call for 2021 Resource Pool applications in the Federal Register (83 FR 24467, May 29, 2018) in accordance with the 2021 Power Marketing Initiative (2021 PMI) (76 FR 71015, Nov. 16, 2011). Applications for power were accepted until 4 p.m. Mountain Daylight Time on July 30, 2018. The procedures used to determine new preference customer eligibility were carried forward from the Post-2010 Resource Pool Procedures as published in the Federal Register (74 FR 20697, May 5, 2009). Specifically, these procedures included the General Eligibility Criteria, General Allocation Criteria, and General Contract Principles.

This Federal Register notice is to conclude the 2021 Resource Pool.

Conclusion of the 2021 Resource Pool

I. Review of Applicants Under 2021 Resource Pool

WAPA received and reviewed seven (7) applications from entities interested in an allocation of power from the 2021 Resource Pool. Review of the applications indicated that none of the applicants qualified under the procedures.

II. Conclusion of the 2021 Resource Pool

WAPA determined that there were no eligible new preference customers in the 2021 Resource Pool. Therefore, no allocations will be made under the 2021 Resource Pool. This Federal Register notice hereby concludes the 2021 Resource Pool.

III. Regulatory Procedure Requirements

Determination Under Executive Order 12866

WAPA has an exemption from centralized regulatory review under Executive Order 12866; accordingly, no clearance of this Federal Register notice by the Office of Management and Budget is required.

Dated: December 19, 2018.
Mark A. Gabriel,
Administrator.

[FR Doc. 2019-00884 Filed 2-1-19; 8:45 am]

BILLING CODE 6450-01-P